NUCLEAR REGULATORY COMMISSION

[Docket Nos. 50-348 and 50-364]

Southern Nuclear Operating Company; Notice of Withdrawal of Application for Amendment to Facility Operating License

The U.S. Nuclear Regulatory Commission (the Commission) has granted the request of Southern Nuclear Operating Company, Inc. (the licensee) to withdraw its March 8, 2005 application for proposed amendment to Facility Operating License Nos. NPF-2 and NPF-8 for the Joseph M. Farley Nuclear Plant, Unit Nos. 1 and 2, located in Houston County, Alabama. The proposed amendment would have revised the Technical Specifications to delete Function 11, Reactor Coolant Pump (RCP) Breaker Position, in TS 3.3.1, “Reactor Trip System (RTS) Instrumentation.”

The Commission had previously issued a Notice of Consideration of Issuance of Amendment published in the Federal Register on July 5, 2005 (70 FR 38722). However, by letter dated March 17, 2006, the licensee withdrew the proposed change.

For further details with respect to this action, see the application for amendment dated March 8, 2005, and the licensee's letter dated March 17, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 5th day of April 2006.
For the Nuclear Regulatory Commission.
Robert E. Martin,
Senior Project Manager, Plant Licensing Branch II-1, Division of Operating Reactor Licensing , Office of Nuclear Reactor Regulation.

[FR Doc. E6-6914 Filed 5-5-06; 8:45 am]

BILLING CODE 7590-01-P